DEPARTMENT OF COMMERCE

National Oceanic and Atmospheric Administration

50 CFR Part 660

RIN 0648-XE456

Pacific Fisheries Management Council; Notice of Intent To Withdraw an Environmental Impact Statement for Gear Rule Changes for the Pacific Coast Groundfish Fishery Trawl Catch Share Program

AGENCY: National Marine Fisheries Service (NMFS), National Oceanic and Atmospheric Administration (NOAA), Commerce.

ACTION: Withdrawal of notice of intent to prepare an environmental impact statement.

SUMMARY: NMFS is issuing this notice to advise Federal, state, and local government agencies and the public that it is withdrawing its Notice of Intent (NOI) to prepare a draft Environmental Impact Statement (EIS) for the proposed action to revise regulations regarding the use and configuration of groundfish bottom trawl and midwater trawl gear in the Pacific Coast Groundfish Fishery's Trawl Catch Share Program, also called the Trawl Rationalization Program. After completion of the analysis, NMFS determined the impacts associated with this action would not reach a level necessitating an EIS, and is instead preparing an Environmental Assessment (EA).

DATES: The environmental impact statement for the proposed regulations is withdrawn as of June 8, 2018.

FOR FURTHER INFORMATION CONTACT: Colin Sayre, NMFS West Coast Regional Office, telephone: (206) 526-4656, or email: colin.sayre@noaa.gov.

SUPPLEMENTARY INFORMATION: NMFS Published a NOI in the Federal Register on March 3, 2016 (81 FR 11189) to prepare an EIS in accordance with the National Environmental Policy Act (NEPA) to analyze the impacts on the human environment resulting from changes to gear requirements for groundfish bottom trawl and midwater trawl gear in the Trawl Rationalization Program. Additional details about the range of alternatives considered in this action are included in the March 3, 2016, NOI, and are not repeated here. NMFS solicited public input on the scope of the analysis through a public comment on the NOI from March 3, 2016, to April 4, 2016.

Upon completion of the analysis for the proposed action, NMFS determined that the impacts associated with the implementation of the proposed action would not be significant and, therefore, there is no need to complete the EIS. Instead, NMFS is completing an EA, in compliance with NEPA, for the proposed action. Therefore, NMFS is withdrawing the NOI to prepare an EIS. NMFS plans to circulate the draft EA for public review and comment concurrent with publication of the proposed rule for this action.

Authority: 16 U.S.C. 1801 et seq. 40 CFR 1500-1508; and Companion Manual for NOAA Administrative Order 216-6A, 82 FR 4306

Dated: June 1, 2018.
Jennifer M. Wallace,
Acting Director, Office of Sustainable Fisheries, National Marine Fisheries Service.

[FR Doc. 2018-12165 Filed 6-7-18; 8:45 am]

BILLING CODE 3510-22-P